DEPARTMENT OF COMMERCE

Foreign-Trade Zones Board

[Order No. 1328]

Approval of Request for Manufacturing Authority Within Foreign-Trade Zone 82; Mobile, AL (Agricultural Chemicals)

Pursuant to its authority under the Foreign-Trade Zones Act of June 18, 1934, as amended (19 U.S.C. 81a-81u), the Foreign-Trade Zones Board (the Board) adopts the following Order:

Whereas, the City of Mobile (Alabama), grantee of Foreign-Trade Zone 82, submitted an application to the Board for manufacturing authority (crop protection products and related chemicals) within FTZ 82 for E.I. DuPont de Nemours and Company (FTZ Docket 39-2003; filed 8/7/2003);

Whereas, notice inviting public comment was given in Federal Register (68 FR 49433, 8/18/2003) and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application for manufacturing authority within FTZ 82 for E.I. DuPont de Nemours and Company, is approved, subject to the Act and the Board's regulations, including Section 400.28.

Signed at Washington, DC, this 3rd day of June 2004.
James J. Jochum,
Assistant Secretary of Commerce for Import Administration, Alternate Chairman, Foreign-Trade Zones Board.

[FR Doc. 04-13491 Filed 6-15-04; 8:45 am]

BILLING CODE 3510-DS-P